DEPARTMENT OF JUSTICE

Notice of Lodging of Consent Decree in Comprehensive Environmental Response, Compensation and Liability Act Cost Recovery Action

In accordance with the Department Policy, 28 CFR 50.7, notice is hereby given that a Consent Decree in United States v. H.K. Porter Company, Inc., Economy Industrial Properties, Thomas R. Allen, Jr., Morton J. Greene, Carol M. Allen, and Anne S. Greene, Civil Action No. 96-579, was lodged with the United States District Court for the Western District of Pennsylvania on July 16, 2002. This Consent Decree resolves claims of the United States' against Economy Industrial Properties, Thomas R. Allen, Jr., Morton J. Greene, Carol M. Allen, and Anne S. Greene (“Settling Defendants”) under section 107(a) of the Comprehensive Environmental Response, Compensation and Liability Act (“CERCLA”), 42 U.S.C. 9607(a), for response costs incurred at the Bollinger Steel Superfund Site in Ambridge, Pennsylvania. The Consent Decree also resolves the United States' claims for civil penalties against Thomas R. Allen and Morton J. Greene under section 104(e) of CERCLA. The Consent Decree requires the Settling Defendants to pay a total of $200,000 in past response costs and requires Thomas R. Allen and Morton J. Green to pay a total of $50,000 in civil penalties to section 104(e) of CERCLA, 42 U.S.C. 9604(e). The Consent Decree also requires the Settling Defendants to take certain steps to sell the Site property and pay the proceeds to the United States in reimbursement of response costs.

The Department of Justice will accept written comments on the proposed Consent Decree for thirty (30) days from the date of publication of this notice. Please address comments to the Assistant Attorney General, Environment and Natural Resources Division, Department of Justice, PO Box 7611, Ben Franklin Station, Washington, DC 20044 and refer to United States v. H.K. Porter Company, Inc., et al., DOJ #90-11-2-738C.

Copies of the proposed Consent Decree may be examined at the Office of the United States Attorney, Western District of Pennsylvania, 633 United States Post Office & Court House, 7th Avenue & Grant Street, Pittsburgh, PA 15219, and at EPA Region III, 1650 Arch Street, Philadelphia, PA 19103-2029. A copy of the proposed Consent Decree may be obtained by mail from the U.S. Department of Justice, Consent Decree Library, PO Box 7611, Washington, DC 20044-7611. When requesting a copy of the proposed Consent Decree, please enclose a check to cover the twenty-five cents per page reproduction costs payable to the “U.S. Treasury” in the amount of $7.00 and please reference United States v. H.K. Porter Company, Inc., et al., DOJ No. 90-11-2-738C.

Robert Brook,
Assistant Chief, Environmental Enforcement Section, Environment and Natural Resources Division.

[FR Doc. 02-19386 Filed 7-31-02; 8:45 am]

BILLING CODE 4410-15-M